INTERNATIONAL TRADE COMMISSION

[Inv. No. 337-TA-487]

In the Matter of Certain Agricultural Vehicles and Components thereof; Notice of Investigation

AGENCY: U.S. International Trade Commission.

ACTION: Institution of investigation pursuant to 19 U.S.C. 1337.

SUMMARY: Notice is hereby given that a complaint was filed with the U.S. International Trade Commission on January 8, 2003, under section 337 of the Tariff Act of 1930, as amended, 19 U.S.C. 1337, on behalf of Deere & Company of Moline, Illinois. Letters supplementing the complaint were filed on January 27 and 28, 2003. The complaint as supplemented alleges violations of section 337 in the importation into the United States, the sale for importation, and the sale within the United States after importation of certain agricultural vehicles and components thereof by reason of infringement and dilution of U.S. Registered Trademark Nos. 1,254,339, 1,502,103, 1,503,576, and 91,860. The complaint further alleges that an industry in the United States exists as required by subsections (a)(1)(A) and (a)(2) of section 337.

The complainant requests that the Commission institute an investigation and, after the investigation, issue a permanent general exclusion order and permanent cease and desist orders.

ADDRESSES: The complaint and supplements, except for any confidential information contained therein, are available for inspection during official business hours (8:45 a.m. to 5:15 p.m.) in the Office of the Secretary, U.S. International Trade Commission, 500 E Street, SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at http://www.usitc.gov. The public record for this investigation may be viewed on the Commission's Electronic Document Information System (EDIS) at https://edis.usitc.gov.

FOR FURTHER INFORMATION CONTACT: David O. Lloyd, Esq., Office of Unfair Import Investigations, U.S. International Trade Commission, telephone (202) 205-2576.

Authority: The authority for institution of this investigation is contained in section 337 of the Tariff Act of 1930, as amended, and in section 210.10 of the Commission's Rules of Practice and Procedure, 19 CFR 210.10 (2002).

Scope of Investigation: Having considered the complaint, the U.S. International Trade Commission, on February 6, 2003, Ordered that—

(1) Pursuant to subsection (b) of section 337 of the Tariff Act of 1930, as amended, an investigation be instituted to determine:

(a) Whether there is a violation of subsection (a)(1)(C) of section 337 in the importation into the United States, the sale for importation, or the sale within the United States after importation of certain agricultural vehicles or components thereof by reason of infringement of U.S. Registered Trademark No. 1,254,339, 1,502,103, 1,503,576, or 91,860, and whether an industry in the United States exists as required by subsection (a)(2) of section 337; and

(b) Whether there is a violation of subsection (a)(1)(A) of section 337 in the importation into the United States, the sale for importation, or the sale within the United States after importation of certain agricultural vehicles or components thereof by reason of dilution of U.S. Registered Trademark No. 1,254,339, 1,502,103, or 1,503,576, the threat or effect of which is to destroy or substantially injure an industry in the United States.

(2) For the purpose of the investigation so instituted, the following are hereby named as parties upon which this notice of investigation shall be served:

(a) The complainant is—

Deere & Company, One John Deere Place, Moline, Illinois 61250.

(b) The respondents are the following companies alleged to be in violation of section 337, and are the parties upon which the complaint is to be served:

Jiangsu Yueda Co. Ltd., 71 Renmin Road Central, Yangcheng City, Jiangsu Province, China 224002

Dongfeng Agricultural Machinery Group, No. 10 Xinye Road, Changzhou, Jiangsu Province, China 213012

Jiangling Tractor Co., 509 Northern Yingbing Avenue, Nanchang City, Jiangxi Province, China 330001

Agra-Infocentrum-Benelux, Postbus 49, 5110 AA Baarle-Nassau, The Netherlands

Agrideal, Chemin des Perrines, 3550 Vitre, France

Erntetechnik Franz Becker, Naendorf 6, Metelen 48629, Germany

Agracat, Inc., 57 E. Main St., Farmington, Arkansas 72730

Bolton Power Equipment, 39 Whitcomb Road, Bolton, MA 01740

Bourdeau Bros., Inc., 590 Mason Road, Champlain, NY 12919-4855

China America Imports, 33898 Adler Lane, Creswell, OR 97426

Co-Ag LLC, 894 County Road, Theresa, WI 53091

Crossroads Technologies International, 815 Bedford St., Chesapeake, VA 23322

Dale Ilgen Enterprises, W. 6897 Firelane 4, Menasha, WI 54952

Davey-Joans Tractor & Chopper Supermarket, 980 SR 13 Box 173, Williamstown, NY 13493

Fitzpatrick Farms, 12210 Stone Road, Fowler, MI 48835

J & T Farms, 370 Spring Grove Road, Ephrata, PA 17522

Lenar Equipment, LLC, 3261 Northeast Alexander Lane, Albany, OR 97321

OK Enterprises, 55617 County Road 13, Mountain Lake, MN 56159

Pacific Avenue Equipment, 1015 Pacific Avenue, Yakima, WA 98901

SamTrac Tractor and Equipment, 3199 Plummers Lane, No. 13, Chico, CA 95973

Stanley Farms, 3821 County Hwy H, Stanley, WI 54768

Sunova Implement Co., 196679 19th Line RR #1, Lakeside, Ontario, Canada N0M 2G0

Task Master Equipment LLC/Tractors Etc., 83969 N. Pacific Highway 99, Creswell, OR 97426

Workhorse Tractors, 36616 N. 27th Ave., Phoenix, AZ 85806

(c) David O. Lloyd, Esq., Office of Unfair Import Investigations, U.S. International Trade Commission, 500 E Street, SW., Room 401, Washington, DC 20436, who shall be the Commission investigative attorney, party to this investigation; and

(3) For the investigation so instituted, the Honorable Paul J. Luckern is designated as the presiding administrative law judge

Responses to the complaint and the notice of investigation must be submitted by the named respondents in accordance with section 210.13 of the Commission's Rules of Practice and Procedure, 19 CFR 210.13. Pursuant to 19 CFR 201.16(d) and 210.13(a), such responses will be considered by the Commission if received no later than 20 days after the date of service by the Commission of the complaint and the notice of investigation. Extensions of time for submitting responses to the complaint will not be granted unless good cause therefor is shown.

Failure of a respondent to file a timely response to each allegation in the complaint and in this notice may be deemed to constitute a waiver of the right to appear and contest the allegations of the complaint and to authorize the administrative law judge and the Commission, without further notice to that respondent, to find the facts to be as alleged in the complaint and this notice and to enter both an initial determination and a final determination containing such findings, and may result in the issuance of a limited exclusion order or a cease and desist order or both directed against that respondent.

By order of the Commission.
Issued: February 7, 2003.
Marilyn R. Abbott,
Secretary.

[FR Doc. 03-3567 Filed 2-12-03; 8:45 am]

BILLING CODE 7020-02-P